INTERNATIONAL TRADE COMMISSION

[Inv. No. 337-TA-575]

In the Matter of Certain Lighters; Notice of Investigation

AGENCY: U.S. International Trade Commission.

ACTION: Institution of investigation pursuant to 19 U.S.C. 1337.

SUMMARY: Notice is hereby given that a complaint was filed with the U.S. International Trade Commission on May 16, 2006, under section 337 of the Tariff Act of 1930, as amended, 19 U.S.C. 1337, on behalf of Zippo Manufacturing Co., Inc. of Bradford, Pennsylvania and ZippMark, Inc. of Wilmington, Delaware. A supplement to the complaint was filed on June 5, 2006. The complaint, as supplemented, alleges violations of section 337 in the importation into the United States, the sale for importation, and the sale within the United States after importation of certain lighters by reason of infringement of U.S. Trademark Registration No. 2,606,241. The complaint further alleges that an industry in the United States exists as required by subsection (a)(2) of section 337.

The complainants request that the Commission institute an investigation and, after the investigation, issue a general exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Thomas S. Fusco, Esq., Office of Unfair Import Investigations, U.S. International Trade Commission, telephone (202) 205-2571.

Authority: The authority for institution of this investigation is contained in section 337 of the Tariff Act of 1930, as amended, and in section 210.10 of the Commission's Rules of Practice and Procedure, 19 CFR 210.10 (2006).

Scope of Investigation: Having considered the complaint, the U.S. International Trade Commission, on June 14, 2006, ordered that—

(1) Pursuant to subsection (b) of section 337 of the Tariff Act of 1930, as amended, an investigation be instituted to determine whether there is a violation of subsection (a)(1)(C) of section 337 in the importation into the United States, the sale for importation, or the sale within the United States after importation of certain lighters by reason of infringement of U.S. Trademark Registration No. 2,606,241, and whether an industry in the United States exists as required by subsection (a)(2) of section 337;

(2) For the purpose of the investigation so instituted, the following are hereby named as parties upon which this notice of investigation shall be served:

(a) The complainants are—

Zippo Manufacturing Co., Inc., 33 Barbour Street, Bradford, PA 16701.

ZippMark, Inc., 103 Springer Building, Silverside Road, Wilmington, DE 19810.

(b) The respondents are the following entities alleged to be in violation of section 337, and are the parties upon which the complaint is to be served:

Tung Fong International Promotion Co., Ltd, Unit C9-21/F., Wah Lok Industrial Ctr., 31-41 Shan Mei St., Fo Tan, N.T., Kln., Hong Kong.

Wenzhou Star Smoking Set Co., Ltd. (aka Wenzhou Hengxing Smoking Set Co., Ltd.), Shuangboa Road, Ouhai Economic Development Area, Wenzhou, China.

Taizhou Rongshi Lighter Development Co., Ltd., (aka Rongshi Enterprise), Chayu Industrial Zone, Zeguo Wenling, Zhejiang, China.

Wenzhou Tailier Smoking Set Co., Ltd. (aka Wenzhou Tailier Smoking Set Manufacturing Co., Ltd.), No. 58 Zhugong Road, JinZhu Industrial Zone, Wenzhou, China 325000.

beWild.com, 2357 Bedford Avenue, Bellmore, NY 11710.

Kalan LP (dba Kalan Trendsetting Gifts & Novelties), 97 S. Union Avenue, Lansdowne, PA 19050.

Vista Wholesale, 1010 Meadow Lane, Greencastle, IN 46135.

(c) The Commission investigative attorney, party to this investigation, is Thomas S. Fusco, Esq., Office of Unfair Import Investigations, U.S. International Trade Commission, 500 E Street, SW., Suite 401, Washington, DC 20436; and

(3) For the investigation so instituted, the Honorable Charles E. Bullock is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondents, to find the facts to be as alleged in the complaint and this notice and to enter an initial determination and a final determination containing such findings, and may result in the issuance of a limited exclusion order or cease and desist order or both directed against the respondent.

By order of the Commission.
Issued: June 15, 2006.
Marilyn R. Abbott,
Secretary to the Commission.

[FR Doc. E6-9671 Filed 6-19-06; 8:45 am]

BILLING CODE 7020-02-P